DEPARTMENT OF COMMERCE

National Oceanic and Atmospheric Administration

[I.D. 031507C]

Receipt of an Application for Incidental Take Permit (1603)

AGENCY: National Marine Fisheries Service (NMFS), National Oceanic and Atmospheric Administration, Commerce

ACTION: Notice of availability.

SUMMARY: NMFS has received an application for an incidental take permit (Permit) from the North Carolina Division of Marine Fisheries (NCDMF) pursuant to the Endangered Species Act of 1973, as amended (ESA). As required by the ESA, NCDMF's application includes a conservation plan designed to minimize and mitigate any such take of endangered or threatened species. The Permit application is for the incidental take of ESA-listed adult and juvenile sea turtles associated with commercial shrimp trawling without the use of a turtle excluder device (TED) off the coast of North Carolina from Browns Inlet to Rich Inlet due to high concentrations of algae which clog shrimp trawls and TEDs. The duration of the proposed Permit is for 5 years. NMFS is furnishing this notice in order to allow other agencies and the public an opportunity to review and comment on this document. All comments received will become part of the public record and will be available for review.

DATES: Written comments from interested parties on the Permit application and Plan must be received at the appropriate address or fax number (see ADDRESSES) no later than 5 p.m. Eastern daylight time on April 23, 2007.

ADDRESSES: Written comments on this action should be addressed to David Cottingham, Chief, Marine Mammal and Sea Turtle Conservation Division, NMFS Office of Protected Resources, 1315 East-West Highway, Silver Spring, MD, 20910; or by fax (301) 427-2522, or by e-mail at: nmfs.itp.1603@noaa.gov. The application is available for download and review at http://www.nmfs.noaa.gov/pr/permits/esa_review.htm.

FOR FURTHER INFORMATION CONTACT: Barbara Schroeder (ph. 301-713-2322, fax 301-427-2522, e-mail Barbara.Schroeder@noaa.gov; Dennis Klemm (ph. 727-824-5312, fax 727-824-5309, e-mail Dennis.Klemm@noaa.gov). Comments received will also be available for public inspection, by appointment, during normal business hours by calling 301-713-2322.

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. Section 10(a)(1)(B) of the ESA provides for authorizing incidental take of listed species. NMFS regulations governing permits for threatened and endangered species are promulgated at 50 CFR 222.307.

Species Covered in This Notice

The following species are included in the conservation plan and Permit application: Loggerhead (Caretta caretta), green (Chelonia mydas), leatherback (Dermochelys coriacea), hawksbill (Eretmochelys imbricata), and Kemp's ridley (Lepidochelys kempii) sea turtles.

Background

NMFS issued Permit 1325 to NCDMF (66 FR 51023, October 5, 2001) and Permit 1008 (61 FR 39442, July 29, 1996). Permit 1325 expired December 31, 2006 and had been issued for the years 2001-2006, replacing the previous permit (1008) which had been issued for the years 1996-2000. Permit 1008 replaced NMFS emergency rules which were issued from 1992 through 1995. The two previously issued permits and the emergency rules allowed limited tow times in lieu of the use of TEDs in an area off the North Carolina coast from Browns Inlet to Rich Inlet (approximately 30 nautical miles long (55.6km) and extending 1 nautical mile (1.9km) offshore) because of high concentrations of algae which clog shrimp trawl nets and TEDs. On December 18, 2006 NCDMF submitteD an application to NMFS for a Permit (1603) to authorize the continued use of limited tow times in lieu of TEDs in the same area (Browns Inlet to Rich Inlet) when high concentrations of algae clog shrimp trawl nets and TEDs.

Conservation Plan

The conservation plan prepared by the NCDMF describes measures designed to monitor, minimize, and mitigate the incidental take of ESA-listed sea turtles annually from April 1 through November 30. The conservation plan includes two primary management measures, the issuance of proclamations by the NCDMF requiring vessels to obtain a tow time permit if they wish to trawl without TEDs in the restricted area and the implementation of seasonally-based tow time requirements in lieu of TEDs within the restricted area for authorized vessels. NCDMF proposes to monitor compliance and effectiveness of the management measures via monitoring of sea turtle strandings. NCDMF proposes to terminate or modify tow time permits if strandings exceed specified thresholds in the restricted area. This is a change in monitoring from the previous conservation plan and permit, which included on-board observer coverage. The conservation plan also includes enforcement of tow times in the restricted area by Marine Patrol officers.

This notice is provided pursuant to section 10(c) of the ESA and the National Environmental Policy Act (NEPA) regulations (40 CFR 1506.6). NMFS will evaluate the application, associated documents, and comments submitted thereon to determine whether the application meets the requirements of the NEPA regulations and section 10(a) of the ESA. If it is determined that the requirements are met, a permit will be issued for incidental takes of ESA-listed sea turtles under the jurisdiction of NMFS. The final NEPA and permit determinations will not be completed until after the end of the 30-day comment period and will fully consider all public comments received during the comment period. NMFS will publish a record of its final action in the Federal Register.

Dated: March 16, 2007.
Thomas C. Eagle,
Acting Chief, Marine Mammal and Sea Turtle Conservation Division, Office of Protected Resources, National Marine Fisheries Service.

[FR Doc. E7-5272 Filed 3-21-07; 8:45 am]

BILLING CODE 3510-22-S